DEPARTMENT OF THE INTERIOR

National Park Service

[NPS-WASO-NAGPRA-23669; PPWOCRADN0-PCU00RP14.R50000]

Notice of Inventory Completion: Tennessee Valley Authority, Knoxville, TN

AGENCY: National Park Service, Interior.

ACTION: Notice.

SUMMARY: The Tennessee Valley Authority (TVA) has completed an inventory of human remains and associated funerary objects in consultation with the appropriate federally recognized Indian Tribes, and has determined that a cultural affiliation between the human remains and associated funerary objects and any present-day federally recognized Indian Tribes cannot be reasonably traced. Representatives of any federally recognized Indian Tribe not identified in this notice that wish to request transfer of control of these human remains and associated funerary objects should submit a written request to TVA. If no additional requestors come forward, transfer of control of the human remains and associated funerary objects to the federally recognized Indian Tribe stated in this notice may proceed.

DATES: Representatives of any federally recognized Indian Tribe not identified in this notice that wish to request transfer of control of these human remains and associated funerary objects should submit a written request with information in support of the request to TVA at the address in this notice by September 21, 2017.

ADDRESSES: Dr. Thomas O. Maher, TVA, 400 West Summit Hill Drive, WT11D, Knoxville TN 37902-1401, telephone (865) 632-7458, email tomaher@tva.gov.

SUPPLEMENTARY INFORMATION: Notice is here given in accordance with the Native American Graves Protection and Repatriation Act (NAGPRA), 25 U.S.C. 3003, of the completion of an inventory of human remains and associated funerary objects under the control of TVA. The human remains and associated funerary objects were removed from archeological sites in Colbert and Lauderdale Counties, AL.

This notice is published as part of the National Park Service's administrative responsibilities under NAGPRA, 25 U.S.C. 3003(d)(3) and 43 CFR 10.11(d). The determinations in this notice are the sole responsibility of the museum, institution, or Federal agency that has control of the Native American human remains and associated funerary objects. The National Park Service is not responsible for the determinations in this notice.

Consultation

A detailed assessment of the human remains and associated funerary objects was made by TVA professional staff in consultation with representatives of the Absentee-Shawnee Tribe of Indians of Oklahoma; Alabama-Coushatta Tribe of Texas (previously listed as the Alabama-Coushatta Tribes of Texas); Cherokee Nation; Coushatta Tribe of Louisiana; Eastern Band of Cherokee Indians; Mississippi Band of Choctaw Indians; Poarch Band of Creeks (previously listed as the Poarch Band of Creek Indians of Alabama); The Chickasaw Nation; The Choctaw Nation of Oklahoma; The Muscogee (Creek) Nation; The Seminole Nation of Oklahoma; and United Keetoowah Band of Cherokee Indians in Oklahoma (hereafter referred to as “The Consulted Tribes”).

History and Description of the Remains

From August 5, 1936 to August 13, 1937, human remains representing, at minimum, 309 individuals were removed from the Mulberry Creek site (1CT27) in Colbert County, AL, by the Alabama Museum of Natural History at the University of Alabama (AMNH). TVA acquired this site on March 25, 1936, for the Pickwick Reservoir project. This shell midden site was at the confluence of Mulberry Creek and the Tennessee River. While there are no radiocarbon dates from this site, the stratified distribution of material culture suggests the primary occupation was during the Late Archaic period (4000-1000 B.C.). Ceramics were only found in the upper three feet of this shell midden, suggesting occupations during the Colbert (300 B.C.-A.D. 100) and McKelvey phases (A.D. 500-1000). The human remains and associated funerary objects are in the physical custody of AMNH and include adults, juveniles, and infants of both sexes. No known individuals were identified. The 3,300 associated funerary objects are 3 stone flakes; 2 antler billets; 2 antler punches; 1 anvil stone; 1 atlatl weight; 4 Baldwin Plain body sherds; 1 Baytown Plain var. McKelvey rim sherd; 1 Benton projectile point; 18 chert bifaces; 5 bone beads; 2 bone fids/awls; 1 bone needle; 12 bone pins; 7 bone pin fragments; 1 carved bone pin; 1 chert celt; 3 ceramic sherds; 175 crinoid stems; 1 Cypress Creek projectile point; 1 Elora projectile point; 2 chert drills; 2 shell gorget fragments; 2 hammerstones; 1 hoe, limestone; 1 knife, chert; 8 unidentified projectile points; 1 Little Bear Creek projectile point; 3 Maples projectile points; 4 modified bones; 5 Morrow Mountain projectile points; 1 Mulberry Creek Cordmarked basal sherd; 1 Mulberry Creek projectile point; 54 drilled canine teeth pendants; 2 Pickwick projectile points; 4 triangular projectile points; 8 chert preforms; 1 lot of unmodified shell; 2,903 shell or stone beads; 6 shell gorgets; 1 stone axe; 2 unmodified turtle shells; 32 turtle shell fragments; 6 unmodified bivalve shells; and 8 White Springs projectile points.

From September 22, 1936 to September 30, 1937, human remains representing, at minimum, 481 individuals were removed from the Bluff Creek site (1LU59) in Lauderdale County, AL, by AMNH. TVA acquired this site on December 23, 1936, for the Pickwick Reservoir project, and the excavation was conducted with Federal funds in anticipation of reservoir construction. This shell mound site was found at the confluence of Bluff Creek and the Tennessee River and was the accumulation of mussel shell and village midden, rather than an intentionally constructed earthen works. Based on the material culture, this site was occupied during the Late Archaic (4000-1000 B.C.), Early Woodland (1000-100 B.C.), Middle Woodland (Copena phase, A.D. 100-500), and Late Woodland (McKelvey phase, A.D. 500-1000). Shell-tempered ceramics from the Mississippian period are found in the upper portion of this shell midden. The human remains and associated funerary objects are in the physical custody of AMNH and include infants, adolescents, and adults of both sexes. No known individuals were identified. The 802 associated funerary objects include 1 adze; 6 antler billets; 1 atlatl weight; 40 bone awls; 1 Baldwin Plain sherd; 2 bar gorgets; 4 beaver incisors; 1 Bell Plain bottle; 1 Bell Plain jar; 1 biface fragment; 8 mammal bones; 2 bone pins; 2 bow drill sockets; 3 celts; 10 copper beads; 1 copper ornament; 1 wooden earspool; 1 bone fid; 1 fire cracked rock; 3 bone flakers; 2 Flint Creek projectile points; 3 Flint River Cordmarked sherds; 1 rubbed galena; 1 grooved abrader; 1 hafted drill; 1 hammerstone; 1 iron ring; 4 jasper beads; 7 mammal mandibles; 1 McKee Island Brushed jar; 1 piece of mica; 1 Mississippi Plain jar; 24 Mississippi Plain sherds; 1 modified antler; 32 modified bones; 47 pieces of modified turtle shell; 2 bone netting needles; 1 shell pendant; 35 teeth pendants; 11 bone projectile points; 1 Cotaco Creek projectile point; 1 Elora projectile point; 1 Hamilton Stemmed projectile point; 5 unidentified projectile points; 1 Ledbetter projectile point; 8 Little Bear Creek projectile points; 2 Madison projectile points; 1 McIntyre projectile points; 1 Mud Creek projectile point; 1 Pickwick projectile point; 1 Smithsonia projectile point; 1 Wade projectile point; 3 chert preforms; 3 raccoon baculums; 1 rattle; 1 lot of seed pods; 21 shells; 377 shell beads; 2 shell cups; 4 shell gorgets; 1 stone; 6 stone beads; 5 carnivore teeth; 66 turtle shell fragments; 13 tubular bone beads; 2 unmodified bones; 5 Wheeler Dentate Stamped sherds; and 1 Wheeler Plain bowl.

From August 24, 1937 to February 11, 1938, human remains representing, at minimum, 141 individuals were removed from the O'Neal site (1LU61) in Lauderdale County, AL, by AMNH. TVA acquired this site on December 23, 1936, for the Pickwick Reservoir project. The site is a shell midden adjacent to the Tennessee River, but because of inclement weather and the early closure of the Pickwick Dam, only two trenches were dug into this site. The primary occupation of the site took place during the Late Archaic period (4000-1000 B.C.). The human remains and associated funerary objects are in the physical custody of AMNH and include adults, juveniles, children, and infants of both sexes. No known individuals were identified. The 676 associated funerary objects include 1 antler flaker; 1 antler tine; 1 bear tooth; 1 biface; 1 Bluff Creek Simple Stamped sherd; 1 bone awl/fid; 1 bone pin; 2 stone drills; 6 jasper beads; 2 modified antler; 1 modified bone; 1 Flint Creek projectile point; 4 Little Bear Creek projectile point; 1 McIntire projectile point; 6 unidentified projectile points; 644 shell beads; and 2 shell gorgets/pendants.

From August to September of 1937, human remains representing, at minimum, 7 individuals were removed from the Meander Scar site (1LU62) in Lauderdale County, AL, by AMNH. TVA acquired this site on August 23, 1935, for the Pickwick Reservoir project. Due to persistent flooding at the confluence of Bluff Creek and the Tennessee River, excavations were limited, and there are no radiocarbon dates from this site. The pottery recovered indicates occupations during the Woodland period (300 B.C.-A.D. 1000). The human remains are in the physical custody of AMNH and include fragmented remains of adults and children of both sexes. No known individuals were identified. No associated funerary objects are present.

From May 20 to June 9, 1936, human remains representing, at minimum, 8 individuals were removed from site 1LU63 in Lauderdale County, AL, by AMNH. TVA acquired this site on October 28, 1936, for the Pickwick Reservoir project, and the excavation was conducted with Federal funds in anticipation of the reservoir construction. This site was one of two burial mounds in the area, and the mound was trenched and systematically excavated vertically with a focus on identifying burial pits. Four soil zones modified by human activity were identified, and although there are no radiocarbon dates, funerary objects indicate that the mound was created during the Middle Woodland Copena phase (A.D. 100-500). The human remains and associated funerary objects are in the physical custody of AMNH including adults and an infant of indeterminate sex. No known individuals were identified. The 17 associated funerary objects include 1 conch shell cup; 2 copper earspools; 2 copper earspool fragments; 1 copper reel gorget; and 11 galena nodules.

In July of 1988, human remains representing, at minimum, 4 individuals were removed from Colliers Cave (1LU494) in Lauderdale County, AL, by the University of Alabama field school. TVA acquired this site on March 28, 1936, for the Pickwick Reservoir project. The site is a large cave that consists of a main passage and several side passages, with evidence of pot-hunting and excavations. The University of Alabama field school excavated two test pits and a trench, but the chronological placement of the site is unknown. The human remains are in the physical custody of AMNH and include three adults and one infant of unknown sex. No known individuals were identified. No associated funerary objects are present.

From June 29 to July 1, 1988, human remains representing, at minimum, 23 individuals were removed from site 1LU495 in Lauderdale County, AL, by the University of Alabama field school. TVA acquired this site on February 18, 1937, for the Pickwick Reservoir project The site is a cave adjacent to Coffee Slough in the vicinity of Seven Mile Island. The University of Alabama field school excavated two small units, but the chronological placement of the site is unknown. The human remains are in the physical custody of AMNH but are too small to identify the sex of the individuals with ages ranging from 6 months to 30 years old. No known individuals were identified. No associated funerary objects are present.

In 1988, human remains representing, at minimum, 4 individuals were surface collected from Coffee Cave (1LU499) in Lauderdale County, AL, by the University of Alabama field school. TVA acquired this site on November 23, 1936. Coffee Cave is adjacent to Coffee Slough in the vicinity of Seven Mile Island. The human remains are in the physical custody of AMNH and are too fragmentary to identify the sex but include two juveniles between 11 and 12 years old; one young adult between 15 and 25 years old; and one adult, 18 years or older. No known individuals were identified. No associated funerary objects are present.

Determinations Made by the Tennessee Valley Authority

Officials of TVA have determined that:

• Pursuant to 25 U.S.C. 3001(9), the human remains described in this notice are Native American based on their presence in prehistoric archeological sites and osteological analysis.

• Pursuant to 25 U.S.C. 3001(9), the human remains described in this notice represent the physical remains of 977 individuals of Native American ancestry.

• Pursuant to 25 U.S.C. 3001(3)(A), the 4,795 objects described in this notice are reasonably believed to have been placed with or near individual human remains at the time of death or later as part of the death rite or ceremony.

• Pursuant to 25 U.S.C. 3001(2), a relationship of shared group identity cannot be reasonably traced between the Native American human remains and associated funerary objects and any present-day Indian Tribe.

• According to final judgments of the Indian Claims Commission or the Court of Federal Claims, the land from which the Native American human remains and associated funerary objects were removed is the aboriginal land of the Cherokee Nation; Eastern Band of Cherokee Indians; and United Keetoowah Band of Cherokee Indians in Oklahoma.

• The Treaty of September 20, 1816, indicates that the land from which the Native American human remains were removed is the aboriginal land of The Chickasaw Nation.

• Pursuant to 43 CFR 10.11(c)(1)(ii), the disposition of the human remains may be to the Cherokee Nation; Eastern Band of Cherokee Indians; The Chickasaw Nation; and United Keetoowah Band of Cherokee Indians in Oklahoma. The Cherokee Nation; Eastern Band of Cherokee Indians; and United Keetoowah Band of Cherokee Indians in Oklahoma have declined to accept transfer of control of the human remains.

• Pursuant to 43 CFR 10.11(c)(4), TVA has decided to transfer control of the funerary objects associated with the culturally unidentifiable human remains to The Chickasaw Nation.

Additional Requestors and Disposition

Representatives of any federally recognized Indian Tribe not identified in this notice that wish to request transfer of control of these human remains and associated funerary objects should submit a written request with information in support of the request to Dr. Thomas O. Maher, TVA, 400 West Summit Hill Drive, WT11D, Knoxville, TN 37902-1401, telephone (865) 632-7458, email tomaher@tva.gov, by September 21, 2017. After that date, if no additional requestors have come forward, transfer of control of the human remains and associated funerary objects to The Chickasaw Nation may proceed.

The TVA is responsible for notifying The Consulted Tribes that this notice has been published.

Dated: June 28, 2017.
Melanie O'Brien,
Manager, National NAGPRA Program.

[FR Doc. 2017-17649 Filed 8-21-17; 8:45 am]

BILLING CODE 4312-52-P